DEPARTMENT OF HEALTH AND HUMAN SERVICES

National Institutes of Health

Center for Scientific Review; Amended Notice of Meeting

Notice is hereby given of a change in the meeting of the Pathophysiology of Obesity and Metabolic Disease Study Section, June 09, 2025, 10:00 a.m. to June 10, 2025, 06:00 p.m., National Institutes of Health, Rockledge II, 6701 Rockledge Drive, Bethesda, MD 20892 which was published in the Federal Register on May 07, 2025, 90 FR 19305 Doc No: 2025-07944.

This meeting is being amended to change the contact person from Dr. Elaine Sierra-Rivera to Dr. Latha Malaiyandi. The meeting is closed to the public.

Dated: May 16, 2025.
Bruce A. George,
Program Analyst, Office of Federal Advisory Committee Policy.

[FR Doc. 2025-09122 Filed 5-20-25; 8:45 am]

BILLING CODE 4140-01-P